DEPARTMENT OF HEALTH AND HUMAN SERVICES

Centers for Disease Control and Prevention

[Program Announcement 03035]

Grants for National Academic Centers of Excellence on Youth Violence Prevention; Notice of Availability of Funds for Fiscal Year 2003

A. Authority and Catalog of Federal Domestic Assistance Number

This program is authorized under sections 301, 391, 392, and 394 of the Public Health Service Act, [42 U.S.C. 241, 280b, 280b-1, 280b-1a, and 280b-2], as amended. Program regulations are set forth in 42 CFR part 52. The Catalog of Federal Domestic Assistance number is 93.136.

B. Purpose

The Centers for Disease Control and Prevention (CDC) announces the availability of fiscal year (FY) 2003 funds for a grant for National Academic Centers of Excellence on Youth Violence Prevention. This program addresses the “Healthy People 2010” focus area related to Injury and Violence Prevention.

The purposes of the program are to: (1) Build the scientific infrastructure necessary to support the development and widespread application of effective youth violence interventions; (2) promote interdisciplinary research strategies to address the problem of youth violence; (3) foster collaboration between academic researchers and communities; and (4) empower communities to address the problem of youth violence.

Measurable outcomes of the program will be in alignment with the following performance goal for the National Center for Injury Prevention and Control (NCIPC): Increase the capacity of injury prevention and control programs to address the prevention of injuries and violence.

C. Eligible Applicants

Assistance will be limited to the following academic health centers, defined as public and private nonprofit universities, colleges, and university-associated teaching hospitals: Virginia Commonwealth University; University of Michigan; University of Puerto Rico; University of California, Riverside; and University of California, San Diego. Only current recipients of Program Announcement 00043, National Academic Centers of Excellence on Youth Violence Prevention, are eligible to apply. The competition is limited to complete the development, collection and analysis of data from core program components in surveillance, intervention research, etiological research, multi-disciplinary collaboration, community mobilization, and training funding established during the first three years for the developing centers.

Note: Title 2 of the United States Code section 1611 states that an organization described in section 501c(4) of the Internal Revenue Code that engages in lobbying activities is not eligible to receive Federal funds constituting an award, grant, or loan.

D. Funding

Availability of Funds

Approximately $1,900,000 is available in FY 2003 to fund approximately five awards. It is expected that the average award will be $380,000, ranging from $376,000 to $393,000 (including direct or indirect costs). It is expected that the awards will begin on or about September 1, 2003, and will be made for a 12-month budget period within a project period of up to two years. Funding estimates may change.

Continuation awards within an approved project period will be made on the basis of the availability of funds and the following criteria:

(1) The accomplishments reflected in the progress report of the continuation application indicate that the applicant is meeting previously stated objectives or milestones contained in the project's annual statement of work. Progress is demonstrated through presentations at monitoring workshops.

(2) The objectives for the new budget period are realistic, specific, and measurable.

(3) The methods described will clearly lead to achievement of these objectives.

(4) The evaluation plan will allow management to monitor whether the methods are effective.

Use of Funds

Provide a budget to include funds for management functions, non-research activities, and small one-year pilot projects of less than $15,000. The budget should include items for development and implementation of a community response plan for youth violence, and development and implementation of curricula for training of health professionals.

Recipient Financial Participation

Matching funds are not required for this program.

Funding Priority

Funding priority will be given to current recipients of Program Announcement 00043, National Academic Centers of Excellence on Youth Violence Prevention. The competition is limited to complete the development, collection and analysis of data from core program components in surveillance, intervention research, etiological research, multi-disciplinary collaboration, community mobilization, and training funding established during the first three years for the developing centers.

Interested persons are invited to comment on the proposed funding priority. All comments received within 30 days after publication in the Federal Register will be considered before the final funding priority is established. If the funding priority changes because of comments received, a revised announcement will be published in the Federal Register, and revised applications will be accepted before the final selections are made. Send comments to the Grants Management Specialist identified in the “Where to Obtain Additional Information” section of this announcement.

E. Program Requirements

In conducting activities to achieve the purpose of this program, the recipient will be responsible for the following activities:

(1) Demonstrated expertise in:

(a) Research in risk and protective factors for youth violence and/or development and evaluation of preventive interventions for youth violence.

(b) Capacity to develop and facilitate implementation of a multi-disciplinary and multi-organizational community response plan for youth violence.

(2) Provide evidence of capacity to develop, deliver, and maintain a training curriculum for health care professionals.

(3) Provide a director (Principal Investigator) who has specific authority and responsibility to carry out the project. The director must report to an appropriate institutional official, e.g., dean of a school or vice president of a university. The director must have no less than 30 percent effort devoted solely to this project.

(4) Demonstrate working relationships with outside agencies and other entities which will allow for implementation of any proposed intervention activities.

(5) Provide evidence of involvement of a multi-disciplinary and multi-organizational group of specialists or experts in primary care, behavioral and/or preventive medicine, epidemiology, law and criminal justice, behavioral and social sciences, and/or public health as needed to complete the plans of the center.

(6) Demonstrate through documentation that full working partners must have established curricula and graduate training programs in disciplines relevant to youth violence prevention (e.g., epidemiology, criminology, social sciences, and behavioral sciences).

(7) Demonstrate an established relationship with youth violence prevention programs through letters of commitment. Also include established relationships with organizations/individual leaders in communities where youth violence related injuries occur at high rates. A letter from an appropriate public health agency in support of the proposed center is required.

F. Content

Letter of Intent (LOI)

An LOI is not required for this program.

Applications

The Program Announcement title and number must appear in the application. Use the information in the Program Requirements, Other Requirements, and Evaluation Criteria sections to develop the application content. Your application will be evaluated on the criteria listed, so it is important to follow them in laying out your program plan. The narrative should be no more than 50 pages, double spaced, printed on one side, with one inch margins, and unreduced 12-point font.

The narrative should consist of, at a minimum, a Plan, Objectives, Methods, Evaluation and Budget. The plan should:

(1) Provide the infrastructure for, and conduct interdisciplinary research relevant to, youth violence.

(2) Support the surveillance of youth violence in the grantees' specific communities.

(3) Develop, evaluate, and more broadly implement effective violence prevention strategies.

(4) Offer mentoring and training initiatives to prepare professionals from various backgrounds to address the issue of youth violence.

(5) Create partnerships with communities to develop plans to address youth violence.

G. Submission and Deadline

Application Forms

Submit the original and two copies of PHS 398 (OMB Number 0925-0001) and adhere to the instructions on the Errata Instruction Sheet for PHS 398. Forms are available at the following Internet address: http://www.cdc.gov/od/pgo/forminfo.htm.

If you do not have access to the Internet, or if you have difficulty accessing the forms on-line, you may contact the CDC Procurement and Grants Office Technical Information Management Section (PGO-TIM) at: (770) 488-2700. Application forms can be mailed to you.

Submission Date, Time, and Address

The application must be received by 4 p.m. Eastern Time, April 7, 2003. Submit the application to: Technical Information Management—PA#03035, CDC Procurement and Grants Office, 2920 Brandywine Road, Atlanta, GA 30341-4146.

Applications may not be submitted electronically.

CDC Acknowledgement of Application Receipt

A post card will be mailed by PGO-TIM, notifying you that CDC has received your application.

Deadline

Applications shall be considered as meeting the deadline if they are received before 4 p.m. Eastern Time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications that do not meet the above criteria will not be eligible for competition and will be discarded. The applicant will be notified of their failure to meet the submission requirements.

H. Evaluation Criteria

Application

Applicants are required to provide measures of effectiveness that will demonstrate the accomplishment of the various identified objectives of the grant. Measures of effectiveness must relate to the performance goal stated in the purpose section of this announcement. Measures must be objective and quantitative and must measure the intended outcome. These measures of effectiveness must be submitted with the application and will be an element of evaluation.

Applications will be reviewed by CDC staff for completeness and responsiveness as outlined under the eligible applicants section. Incomplete applications and applications that are not responsive will be returned to the applicant without further consideration.

Applications which are complete and responsive may be subjected to a preliminary evaluation (streamlined review) by a peer review committee, the Injury Research Grant Review Committee (IRGRC), to determine if the application is of sufficient technical and scientific merit to warrant further review by the IRGRC. CDC will withdraw from further consideration applications judged to be noncompetitive and promptly notify the principal investigator/program director and the official signing for the applicant organization. Those applications judged to be competitive will be further evaluated by a dual review process.

All awards will be determined by the director of the NCIPC based on priority scores assigned to applications by the IRGRC, recommendations by the secondary review committee of the Science and Program Review Subcommittee of the Advisory Committee for Injury Prevention and Control (ACIPC), consultation with NCIPC senior staff, and the availability of funds.

1. The primary review will be a peer review conducted by the IRGRC. All applications will be reviewed for scientific merit using current National Institutes of Health (NIH) and CDC criteria (a scoring system of 100 to 500 points) to evaluate the methods and scientific quality of the application. Factors to be considered will include:

a. Plan for the development of infrastructure and conduct of interdisciplinary research relevant to youth violence (25 percent).

(1) The application will specifically aim to address all the goals of the program, for example, the long-term objectives and intended accomplishments for the proposed center in relation to the problem of preventing youth violence and self-directed violence among the young. If the aims of the application are achieved, how will prevention of youth violence be advanced? What will be the effect of the center's activities on violence prevention efforts within the center's target community or region (e.g., surveillance)?

(2) The extent to which the evaluation plan will allow for the measurement of progress toward the achievement of stated objectives of the proposed center.

(3) Qualifications, adequacy, and appropriateness of personnel to accomplish the proposed activities. Project director: Is the proposed center director appropriately trained and well-suited to carry out this work? Is the work proposed appropriate to the experience level of the proposed director and other key faculty and staff?

(4) Adequacy of institutional support and arrangements to ensure successful implementation of activities of the proposed centers, including arrangements for the center director's time commitment and authority, and documentation of relationships and understanding of roles and responsibilities between partner institutions and community organizations.

b. Implement effective violence prevention strategies (20 percent).

Adequacy of plans to conduct pilot projects relevant to the field of violence prevention including: adequacy of the setting and participants for the project, relevance of outcome measurements, expected results, and appropriateness of time lines, cost, and plans for translation/dissemination.

c. Create partnerships with communities to develop plans to address youth violence (20 percent).

Adequacy of plans and arrangements to develop and implement a community response to the problem of youth violence. Incorporate diverse perspectives (i.e., health and mental health professionals, educators, the media, parents, young people, police, criminal/juvenile courts, legislators, public health specialists, and business leaders). Documentation of agreements and clear understanding of roles and responsibilities of partner organizations.

d. Training initiatives to prepare professionals from various backgrounds to address the issue of youth violence (20 percent).

Adequacy of plans and arrangements to develop and implement curricula for training of health care professionals on violent behavior identification, assessment, intervention with high risk youth. Integrate this curriculum into medical, nursing, and other health professional training program.

e. Research Factors (15 percent).

(1) Significance. Does this study address an important problem? If the aims of the application are achieved, how will scientific knowledge be advanced? What will be the effect of these studies on the concepts or methods that drive this field?

(2) Approach. Are the conceptual framework, design, methods, and analyses adequately developed, well-integrated, and appropriate to the aims of the project? Does the applicant acknowledge potential problem areas and consider alternative tactics? Does the project include plans to measure progress toward achieving the stated objectives? Is there an appropriate work plan included?

(3) Innovation. Does the project employ novel concepts, approaches, or methods? Are the aims original and innovative? Does the project challenge or advance existing paradigms, or develop new methodologies or technologies?

(4) Investigator. Is the principal investigator appropriately trained and well-suited to carry out this work? Is the proposed work appropriate to the experience level of the principal investigator and other significant investigator participants? Is there a prior history of conducting injury-related research?

(5) Environment. Does the scientific environment in which the work will be done contribute to the probability of success? Does the proposed research take advantage of unique features of the scientific environment or employ useful collaborative arrangements? Is there evidence of institutional support? Is there an appropriate degree of commitment and cooperation of other interested parties as evidenced by letters detailing the nature and extent of the involvement?

(6) Study Samples. Are the samples sufficiently rigorously defined to permit complete independent replication at another site? Have the referral sources been described, including the definitions and criteria? What plans have been made to include women and minorities and their subgroups as appropriate for the scientific goals of the research? How will the applicant deal with recruitment and retention of subjects?

(7) Dissemination. What plans have been articulated for disseminating findings?

(8) Measures of Effectiveness. The Peer Review Panel shall assure that measures set forth in the application are in accordance with CDC's performance plans. How adequately has the applicant addressed these measures?

f. Budget and justification (reviewed, but not scored). The extent to which the proposal demonstrates appropriateness and justification of the requested budget relative to the activities proposed.

g. Performance Goal (reviewed, but not scored). The application must be aligned with the following performance goal for the National Center for Injury Prevention and Control: Increase the capacity of injury prevention and control programs to address the prevention of injuries and violence.

h. Human Subjects Protection (reviewed, but not scored). Does the application adequately address the requirements of Title 45 CFR part 46 for the protection of human subjects? Not scored; however, an application can be disapproved if the research risks are sufficiently serious and protection against risks is so inadequate as to make the entire application unacceptable.

i. Does the application adequately address the CDC Policy requirements regarding the inclusion of women, ethnic, and racial groups in the proposed research? (reviewed, but not scored). This includes:

(1) The proposed plan for the inclusion of both sexes and racial and ethnic minority populations for appropriate representation.

(2) The proposed justification where representation is limited or absent.

(3) A statement as to whether the design of the study is adequate to measure differences when warranted.

(4) A statement as to whether the plans for recruitment and outreach for study participants include the process of establishing partnerships with community(ies) and recognition of mutual benefits.

2. The secondary review will be conducted by the Science and Program Review Subcommittee (SPRS) of the ACIPC. The ACIPC federal agency experts will be invited to attend the secondary review and will receive modified briefing books (i.e., abstracts, strengths and weaknesses from summary statements, and project officer's briefing materials). ACIPC federal agency experts will be encouraged to participate in deliberations when applications address overlapping areas of research interest, so that unwarranted duplication in federally-funded research can be avoided and special subject area expertise can be shared. The NCIPC Division Associate Directors for Science (ADS) or their designees will attend the secondary review in a similar capacity as the ACIPC federal agency experts to assure that research priorities of the announcement are understood and to provide background regarding current research activities. Only SPRS members will vote on funding recommendations, and their recommendations will be carried to the entire ACIPC for voting by the ACIPC members in closed session. If any further review is needed by the ACIPC, regarding the recommendations of the SPRS, the factors considered will be the same as those considered by the SPRS.

The committee's responsibility is to develop funding recommendations for the NCIPC Director based on the results of the primary review, the relevance and balance of proposed research relative to the NCIPC programs and priorities, and to assure that unwarranted duplication of federally-funded research does not occur. The secondary review committee has the latitude to recommend to the NCIPC Director, to reach over better ranked proposals in order to assure maximal impact and balance of proposed research. The factors to be considered will include:

a. The results of the primary review including the application's priority score as the primary factor in the selection process.

b. The relevance and balance of proposed research relative to the NCIPC programs and priorities.

c. The significance of the proposed activities in relation to the priorities and objectives stated in “Healthy People 2010,” the Institute of Medicine report, “Reducing the Burden of Injury,” and the “CDC Injury Research Agenda.”

d. Budgetary considerations.

I. Other Requirements

Technical Reporting Requirements

Provide CDC with original plus two copies of:

1. Annual progress reports including a data requirement that demonstrates measures of effectiveness.

2. Financial status report, no more than 90 days after the end of each budget period.

3. Final financial and performance reports, no more than 90 days after the end of the project period.

4. At the completion of the project, the grant recipient will submit a brief summary, 2,500 to 4,000 words written in non-scientific [laymen's] terms, highlighting the findings and their implications for injury prevention programs, policies, environmental changes, etc. The grant recipient will also include a description of the dissemination plan for research findings. This plan will include publications in peer-reviewed journals and ways in which research findings will be made available to stakeholders outside of academia (e.g., state injury prevention program staff, community groups, public health injury prevention practitioners, and others). CDC will place the summary report and each grant recipient's final report with the National Technical Information Service (NTIS) to further the agency's efforts to make the information more available and accessible to the public.

Send all reports to the Grants Management Specialist identified in the “Where to Obtain Additional Information” section of this announcement.

Additional Requirements

The following additional requirements are applicable to this program. For a complete description of each, see Attachment I of the program announcement, as posted on the CDC Web site.

AR-1 Human Subjects Requirements.

AR-2 Requirements for Inclusion of Women and Racial and Ethnic Minorities in Research.

AR-9 Paperwork Reduction Act Requirements.

AR-10 Smoke-Free Workplace Requirement.

AR-11 Healthy People 2010.

AR-12 Lobbying Restrictions.

AR-13 Prohibition on Use of CDC Funds for Certain Gun Control Activities.

AR-20 Conference Support.

Executive Order 12372 does not apply to this program.

J. Where To Obtain Additional Information

This and other CDC announcements, the necessary applications, and associated forms can be found on the CDC Web site, Internet address: http://www.cdc.gov.

Click on “Funding” then “Grants and Cooperative Agreements.”

For general questions about this announcement, contact: Technical Information Management, CDC Procurement and Grants Office, 2920 Brandywine Rd., Atlanta, GA 30341-4146, Telephone: (770) 488-2700.

For business management and budget assistance, contact: Nancy Pillar, Grants Management Specialist, Procurement and Grants Office, Centers for Disease Control and Prevention, 2920 Brandywine Road, Room 3000, Atlanta, GA 30341-4146, Telephone: (770) 488-2721, E-mail address: NPillar@cdc.gov.

For program technical assistance, contact: Candice Jackson, Project Officer, Division of Violence Prevention, National Center for Injury Prevention and Control, Centers for Disease Control and Prevention, 4770 Buford Highway, NE, MS K60, Atlanta, GA 30341-3724, Telephone: (770) 488-1571, E-mail address: CJackson@cdc.gov.

Dated: February 13, 2003.
Sandra R. Manning,
CGFM Director, Procurement and Grants Office, Centers for Disease Control and Prevention.

[FR Doc. 03-4061 Filed 2-20-03; 8:45 am]

BILLING CODE 4163-18-P